DEPARTMENT OF COMMERCE

International TradE Administration

[C-489-806]

Final Results of Expedited Sunset Review: Countervailing Duty Order on Certain Pasta From Turkey

AGENCY: Import Administration, International Trade Administration, Department of Commerce.

ACTION: Notice of final results of expedited sunset review: Countervailing duty order on certain pasta from Turkey.

SUMMARY: On June 1, 2001, the Department of Commerce (“the Department”) initiated a sunset review of the countervailing duty order on certain pasta (“pasta”) from Turkey (66 FR 29771) pursuant to section 751(c) of the Tariff Act of 1930, as amended (“the Act”). On the basis of a notice of intent to participate and adequate substantive comments filed on behalf of the domestic interested parties, and inadequate response (in this case, no response) from respondent interested parties, the Department is conducting an expedited (120-day) sunset review of this countervailing duty order. As a result of this review, the Department finds that revocation of the countervailing duty order would be likely to lead to continuation or recurrence of a countervailable subsidy. The net countervailable subsidy and the nature of the subsidy are identified in the Final Results of Review section of this notice.

EFFECTIVE DATE: October 5, 2001.

FOR FURTHER INFORMATION CONTACT: Martha V. Douthit or Carole A. Showers, Office of Policy for Import Administration, International Trade Administration, U.S. Department of Commerce, 14th Street and Constitution Avenue, NW, Washington, D.C. 20230; telephone: (202) 482-5050 or (202) 482-3217, respectively.

SUPPLEMENTARY INFORMATION:

Statute and Regulations

Unless otherwise indicated, all citations to the Act are references to the provisions effective January 1, 1995, the effective date of the amendments made to the Act by the Uruguay Round Agreement Act (“URAA”). The Department's procedures for the conduct of sunset reviews are set forth in Procedures for Conducting Five-year (“Sunset”) Reviews of Antidumping and Countervailing Duty Orders, 63 FR 13516 (March 20, 1998) (“Sunset Regulations”), and in 19 CFR Part 351 (2000) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Scope of Review

The scope of this review covers shipments of certain non-egg dry pasta in packages of five pounds (2.27 kilograms) or less, whether or not enriched or fortified or containing milk or other optional ingredients such as chopped vegetables, vegetable purees, milk, gluten, diastases, vitamins, coloring and flavorings, and up to two percent egg white. Pasta covered by this review is typically sold in the retail market, in fiberboard or cardboard cartons or polyethylene or polypropylene bags, of varying dimensions.

Excluded from the order and this review are refrigerated, frozen, or canned pastas, as well as all forms of egg pasta, with the exception of non-egg dry pasta containing up to two percent egg white.

The subject merchandise is currently classifiable under subheading 1902.19.20 of the Harmonized Tariff Schedule of the United States (“HTSUS”). Although the HTSUS subheading is provided for convenience and customs purposes, our written description of the scope of this review is dispositive.

Scope Ruling

The Department has issued the following scope ruling:

On October 26, 1998, the Department self-initiated a scope inquiry to determine whether a package weighing over five pounds as a result of allowable industry tolerances may be within the scope of the countervailing duty order. On May 24, 1999, we issued a final scope ruling finding that, effective October 26, 1998, pasta in packages weighing or labeled up to (and including) five pounds four ounces is within the scope of the countervailing duty order. (See May 24, 1999, memorandum from John Brinkman to Richard Moreland, which is on file in the Central Records Unit (“CRU”) in Room B-099 of the main Commerce building.)

Background

On June 1, 2001, the Department initiated a sunset review of the countervailing duty orders on pasta from Turkey, pursuant to section 751(c) of the Act (66 FR 29771). The Department received a notice of intent to participate on behalf of New World Pasta, American Italian Pasta Company, Borden Foods Corporation, and Dakota Growers Pasta Company (collectively, “the domestic interested parties”), on June 15, 2001, within the applicable deadline specified in section 351.218(d)(1)(i) of the Sunset Regulations. Pursuant to section 771(9)(C) of the Act, the domestic interested parties claimed interested party status as producers of certain pasta. In addition, the domestic interested parties assert that most of the domestic interested parties participated in the original investigation and the scope clarification proceeding.¹ On June 29, 2001, we received a request for extension of time to file substantive responses and rebuttal comments from the domestic interested parties.² The Department received a complete substantive response from the domestic interested parties on July 16, 2001. The Department did not receive substantive responses from any respondent interested party in this proceeding.³ As a result, pursuant to 19 CFR 351.218(e)(2)(ii)(C), the Department determined to conduct an expedited, 120-day, sunset review of the countervailing duty order on pasta from Turkey.⁴

¹ See Substantive Response by the Domestic Industry, Sunset Review of the Countervailing Duty Order on Certain Pasta from Turkey, July 2, 2001, at 4.

² On June 29, 2001, the Department received a letter on behalf of the domestic interested parties regarding request for additional time to file substantive and rebuttal comments in this sunset review. On June 29, 2001, the Department granted the extension to the domestic parties and to all participants. Pursuant to 19 CFR 351.302(b), the deadline for all parties filing substantive responses was extended to July 16, 2001.

Pursuant to 19 CFR 351.218(d)(4), the time for filing rebuttal comments was therefore extended to July 23, 2001 for all parties. In this review, no rebuttal briefs were filed.

³ On June 20, 2001, the Department received a letter from the Government of Turkey (“GOT”) regarding its interest in participating in the sunset proceeding regarding the countervailing duty order on certain pasta from Turkey. However, the Department did not receive a substantive response from the GOT.

⁴ See July 23, 2001, Letter from Jeffrey A. May, Director, Office of Policy, to Lynn Featherstone, Director, Office of Investigations, International Trade Commission, regarding Pasta from Turkey: Expedited Sunset Reviews of Antidumping and Countervailing Duty Orders.

Analysis of Comments Received

All issues raised by parties to this sunset review are addressed in the Issues and Decision Memorandum (“Decision Memorandum”) from Jeffrey A. May, Director, Office of Policy, Import Administration, to Faryar Shirzad, Assistant Secretary for Import Administration, dated October 1, 2001, which is hereby adopted by this notice. The issues discussed in the Decision Memorandum include the likelihood of continuation or recurrence of countervailing subsidies and the net subsidy likely to prevail were the order revoked. Parties can find a complete discussion of all issues raised in this review and the corresponding recommendations in this public memorandum, which is on file in the Central Records Unit, room B-099, of the main Commerce building. In addition, a complete version of the Decision Memorandum can be accessed directly on the Web at http://ia.ita.doc.gov/frn, under the heading “October 2001.” The paper copy and electronic version of the Decision Memorandum are identical in content.

Final Results of Review

We determine that revocation of the countervailing duty order on pasta from Turkey would likely lead to continuation or recurrence of a countervailable subsidy at the rates listed below:

Turkey
Manufacturer/producer/exporters | Net Countervailable subsidy
Filiz | 3.87
Maktas | 13.12
Oba | 15.82
All Other (manufacturers/producers/exporters) | 9.70

Nature of the Subsidies

Five of the programs included in the calculations of the net countervailable subsidy likely to prevail if the order were revoked fall within the definition of an export subsidy under Article 3.1(a) of the Subsidies Agreement. They are: Pre-Shipment Export Loans, Pasta Export Grants, Free Wheat Program, Payment for Exports on Turkish Ships/State Aid for Exports, and Tax Exemption Based on Export Earnings.

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: October 1, 2001.
Joseph A. Spetrini,
Acting Assistant Secretary for Import Administration.

[FR Doc. 01-25103 Filed 10-4-01; 8:45 am]

BILLING CODE 3510-DS-P